DEPARTMENT OF THE INTERIOR

Bureau of Land Management

[OR-958-1430-ET; HAG-03-0249; OR-59196]

Proposed Withdrawal and Opportunity for Public Meeting; Washington

AGENCY: Bureau of Land Management, Interior.

ACTION: Notice.

SUMMARY: The Bureau of Land Management proposes to withdraw 80 acres of public land for a period of 20 years to protect and preserve the unique educational, scientific, and research values of the Hot Lake Natural Area. This notice segregates the land for up to 2 years from settlement, sale, location or entry under the general land laws including the mining laws. The land will remain open to mineral and geothermal leasing and mineral material sales.

EFFECTIVE DATE: Comments and requests for a public meeting must be received by January 26, 2004.

ADDRESSES: Comments and meeting requests should be sent to the Oregon/Washington State Director, BLM, P.O. Box 2965, Portland, Oregon 97208-2965.

FOR FURTHER INFORMATION CONTACT: William Schurger, Wenatchee Resource Area, 509-665-2116, or, Charles R. Roy, BLM Oregon/Washington State Office, 503-808-6189.

SUPPLEMENTARY INFORMATION: The Bureau of Land Management has filed an application to withdraw the following described public land from settlement, sale, location or entry under the general land laws including the mining laws, subject to valid existing rights:

Willamette Meridian

T. 40 N., R. 27 E.,

Sec. 7, SE¼SE¼;

Sec. 18, NE¼NE¼.

The area described contains 80 acres in Okanogan County.

The purpose of the proposed withdrawal is to protect and preserve the unique educational, scientific, and research values of the Hot Lake Natural Area.

For a period of 90 days from the date of publication of this notice, all persons who wish to submit comments, suggestions, or objections in connection with the proposed withdrawal may present their views in writing to the State Director at the address indicated above. Comments, including names, street addresses, and other contact information of respondents, will be available for public review at the Oregon/Washington State office during regular business hours (8:30 a.m. to 4 p.m.), Monday through Friday, except Federal holidays. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

Notice is hereby given that an opportunity for a public meeting is afforded in connection with the proposed withdrawal. All interested parties who desire a public meeting for the purpose of being heard on the proposed withdrawal must submit a written request to the State Director at the address indicated above within 90 days from the date of publication of this notice in the Federal Register. Upon determination by the authorized officer that a public meeting will be held, a notice of the time and place will be published in the Federal Register at least 30 days before the scheduled date of the meeting.

The application will be processed in accordance with the regulations set forth in 43 CFR part 2300.

For a period of 2 years from the date of publication of this notice in the Federal Register, the lands will be segregated as specified above unless the application is denied or canceled or the withdrawal is approved prior to that date. The temporary land uses which may be permitted during this segregative period will be limited to those uses which are compatible with the educational, scientific, and research values of the Hot Lake Natural Area.

Dated: October 14, 2003.
Robert D. DeViney,
Chief, Branch of Realty and Records Services.

[FR Doc. 03-26993 Filed 10-24-03; 8:45 am]

BILLING CODE 4310-33-P